DEPARTMENT OF STATE

[Public Notice 8103]

Shipping Coordinating Committee; Notice of Committee Meeting

The Shipping Coordinating Committee (SHC) will conduct an open meeting at 9:30 a.m. on Thursday December 20, 2012, and Thursday January 10, 2013, at the Radio Technical Commission for Maritime Services (RTCM) in suite 605, 1611 N. Kent St., Arlington VA 22209. These meetings were previously noticed in Public Notice Number 7973 [FR Vol, 77, Number 153 (Wednesday August 8, 2012) pages 47490-47491]. This notice updates the physical address at which the meetings will be conducted. The primary purpose of the meetings is to prepare for the seventeenth Session of the International Maritime Organization's (IMO) Sub-Committee on Radiocommunications Search and Rescue to be held at the IMO Headquarters, United Kingdom, January 21-25, 2013.

The agenda items to be considered include:

—Adoption of the agenda

—Decisions of other IMO bodies

—Global Maritime Distress and Safety System (GMDSS):

—Review and modernization of the GMDSS

—Further development of the GMDSS master plan on shore-based facilities

—Consideration of operational and technical coordination provisions of maritime safety information (MSI) services, including the development and review of the related documents

—ITU maritime radiocommunication matters:

—Consideration of radiocommunication ITU-R Study Group matters

—Consideration of ITU World Radiocommunication Conference matters

—Consideration of developments in Inmarsat and Cospas-Sarsat

—Search and Rescue (SAR):

—Development of guidelines on harmonized aeronautical and maritime search and rescue procedures, including SAR training matters

—Further development of the Global SAR Plan for the provision of maritime

—SAR services, including procedures for routeing distress information in the GMDSS

—Developments in maritime radiocommunication systems and technology

—Development of amendments to the IAMSAR Manual

—Development of measures to avoid false distress alerts

—Development of measures to protect the safety of persons rescued at sea

—Development of an e-navigation strategy implementation plan

—Consideration of LRIT-related matters

—Development of a mandatory Code for ships operating in polar waters

—Biennial agenda and provisional agenda for COMSAR 18

—Election of Chairman and Vice-Chairman for 2014

—Any other business

—Report to the Maritime Safety Committee

Members of the public may attend this meeting up to the seating capacity of the room. To facilitate the building security process, and to request reasonable accommodation, those who plan to attend should contact the meeting coordinator, Russell Levin, by email at russell.s.levin@uscg.mil, by phone at (202) 475-3555, by fax at (202) 475-3927, or in writing at Commandant (CG-6PS), U.S. Coast Guard, 2100 2nd Street SW., Stop 7101, Washington, DC 20593-7101 not later than 7 days prior to the meeting. Requests made after that date might not be able to be accommodated. The RTCM building is accessible by taxi and privately owned conveyance (public transportation is not generally available). However, parking in the vicinity of the building is extremely limited. Additional information regarding this and other IMO SHC public meetings may be found at: www.uscg.mil/imo.

Dated: November 30, 2012.
Brian Robinson,
Executive Secretary, Shipping Coordinating Committee, Department of State.

[FR Doc. 2012-29378 Filed 12-4-12; 8:45 am]

BILLING CODE 4710-09-P